ENVIRONMENTAL PROTECTION AGENCY

40 CFR Part 300

[EPA-HQ-SFUND-2002-0001; FRL-9974-43—Region 1]

National Oil and Hazardous Substances Pollution Contingency Plan; National Priorities List: Deletion of the Hatheway & Patterson Superfund Site

AGENCY: Environmental Protection Agency.

ACTION: Final rule.

SUMMARY: The Environmental Protection Agency (EPA) Region 1 announces the deletion of the Hatheway & Patterson Superfund Site (Site) located in Mansfield and Foxborough, Massachusetts, from the National Priorities List (NPL). The NPL, promulgated pursuant to section 105 of the Comprehensive Environmental Response, Compensation, and Liability Act (CERCLA) of 1980, as amended, is an appendix of the National Oil and Hazardous Substances Pollution Contingency Plan (NCP). The EPA and the Commonwealth of Massachusetts, through the Massachusetts Department of Environmental Protection (MassDEP), have determined that all appropriate response actions under CERCLA, other than operation and maintenance, monitoring, and five-year reviews, have been completed. However, this deletion does not preclude future actions under Superfund.

DATES: This action is effective February 16, 2018.

ADDRESSES: Docket: EPA has established a docket for this action under Docket Identification No. EPA-HQ-SFUND-2002-0001. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

U.S. EPA Region 1, Superfund Records Center, 5 Post Office Square, Suite 100, Boston, MA 02109, Phone: 617-918-1440, Monday-Friday: 9:00 a.m.-5:00 p.m., Saturday and Sunday—Closed.

FOR FURTHER INFORMATION CONTACT: Kimberly White, Remedial Project Manager, U.S. Environmental Protection Agency, Region 1, OSRR07-1, Boston, MA 02109-3912, (617) 918-1752, email: white.kimberly@epa.gov.

SUPPLEMENTARY INFORMATION: The site to be deleted from the NPL is: Hatheway & Patterson Superfund Site, Mansfield and Foxborough, Massachusetts. A notification of deletion for this Site was published in the Federal Register (82 FR 56939) on December 1, 2017.

The closing date for comments on the notification of deletion was January 2, 2018. Six (6) public comments were received and three of the comments questioned whether EPA completed what is required under CERCLA and whether deletion of the Site was appropriate; the remaining three comments did not articulate a position on the proposed deletion. As a result of the comments, EPA published a notification of withdrawal of the direct final rule in the Federal Register (83 FR 4431) on January 31, 2018, withdrawing the direct final deletion for the Site and announcing it would evaluate and respond to the significant comments and, if appropriate, proceed with the traditional two-step deletion process.

After consideration of the comments received, EPA concluded that the deletion of the Site is still appropriate. Based on EPA's evaluation of the data, the remedy protects human health and the environment because remediation of the soil (soil removal and on-site consolidation) has been completed to cleanup levels that are considered protective for the anticipated future use of the property, there is no current use of on-site groundwater which is classified as non-potable, and institutional controls are in place. Operation and maintenance activities are on-going and will ensure that the consolidation area and associated components of the remedy (e.g., groundwater monitoring wells) remain in good condition. In addition, monitoring of groundwater will continue to assess the protectiveness of the remedy. Monitoring data collected as part of the operation and maintenance plan for the Site will continue to be collected for the foreseeable future and the data will be continuously evaluated. The data will be reported as part of the next Five- Year Review scheduled for 2019. During the Five-Year Review, EPA will evaluate whether the remedy remains protective. If additional actions are warranted, EPA will implement those actions. A responsiveness summary was prepared which addresses all comments received on the deletion and provides further rationale that the deletion is appropriate. The responsiveness summary may be viewed in both the docket, EPA-HQ-SFUND-2002-0001, on www.regulations.gov, and in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: January 29, 2018.
Alexandra Dapolito Dunn,
Regional Administrator Region 1.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing “MA”, “Hatheway and Patterson Company”, “Mansfield”.

[FR Doc. 2018-03275 Filed 2-15-18; 8:45 am]

BILLING CODE 6560-50-P